SMALL BUSINESS ADMINISTRATION

[Disaster Declaration #10180 and #10181]

AL Disaster Number AL-00003

AGENCY: Small Business Administration.

ACTION: Amendment 3.

SUMMARY: This is an amendment of the Presidential declaration of a major disaster for the State of Alabama (FEMA-1605-DR), dated August 29, 2005.

Incident: Hurricane Katrina.

Incident Period: August 29, 2005 through September 26, 2005.

Effective Date: October 5, 2005.

Physical Loan Application Deadline Date: October 28, 2005.

EIDL Loan Application Deadline Date: May 29, 2006.

ADDRESSES: Submit completed loan applications to: Small Business Administration, Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Alabama, dated August 29, 2005 is hereby amended to include the following areas as adversely affected by the disaster:

Primary Counties:

Marengo

Contiguous Counties:

Alabama, Dallas

All other information in the original declaration remains unchanged.

(Catalog of Federal Domestic Assistance Numbers 59002 and 59008)

S. George Camp,
Acting Associate Administrator for Disaster Assistance.

[FR Doc. 05-20727 Filed 10-17-05; 8:45 am]

BILLING CODE 8025-01-P